DEPARTMENT OF TRANSPORTATION

Federal Aviation Administration

Notice of Intent To Prepare an Environmental Impact Statement (EIS) for the Proposed Airfield Safety Enhancement Project at Tucson International Airport, Tucson, Pima County, Arizona

AGENCY: Federal Aviation Administration, (FAA), DOT.

ACTION: Notice of intent to prepare an Environmental Impact Statement and request for scoping comments.

SUMMARY: The Federal Aviation Administration (FAA) is issuing this notice under the provisions of the National Environmental Policy Act (NEPA) of 1969, as amended to advise the public that an Environmental Impact Statement (EIS) will be prepared to assess the potential impacts of the proposed Airfield Safety Enhancement Project (ASEP) including real property transactions between the United States Air Force (USAF) and the Tucson Airport Authority (TAA); demolition of 12 Earth Covered Magazines (ECM); replacement of the ECMs elsewhere on USAF Plant 44; construction of a new parallel taxiway; relocation of Runway 11R-29L and other associated development at Tucson International Airport. The proposed project also includes transfer of land ultimately to the USAF, on behalf of the National Guard Bureau (NGB), for construction of a Munitions Storage Area and access road to support the 162nd Fighter Wing at Tucson Air National Guard Base. To ensure that all significant issues related to the proposed action are identified, one (1) public scoping meeting and one (1) governmental agency scoping meeting will be held.

FAA is the lead agency on the preparation of the EIS and has invited the Department of the Air Force (USAF) and the National Guard Bureau (NGB) to participate as cooperating agencies because the Tucson Airport Authority's proposed action requires federal actions by both U.S. Department of Defense agencies.

FOR FURTHER INFORMATION CONTACT: Mr. David B. Kessler, M.A., AICP, Federal Aviation Administration, Western-Pacific Region—Airports Division, AWP-610.1., P.O. Box 92007, Los Angeles, California 90009-2007. Telephone: 310-725-3615.

SUPPLEMENTARY INFORMATION: The purpose of this notice is to inform federal, state, and local government agencies, and the public of the intent to prepare an EIS and to conduct a public and agency scoping process. Information, data, opinions, and comments obtained throughout the scoping process will be considered in preparing the draft EIS.

The scoping process for this EIS will include a comment period for interested agencies and interested persons to submit oral and/or written comments representing the concerns and issues they believe should be addressed. Please submit any written comments to the FAA not later than 5:00 p.m. Pacific Daylight Time, Monday, October 3, 2016.

The EIS will be prepared in accordance with the procedures described in FAA Order 5050.4B, National Environmental Policy Act (NEPA) Implementing Instructions for Airport Actions, and FAA Order 1050.1F, Environmental Impacts: Policies and Procedures. The Tucson Airport Authority, the owner of Tucson International Airport, proposes the following development as identified in the Airfield Safety Enhancement Plan: Construction of a new center parallel and connecting taxiway system; a replacement Runway 11R-29L (proposed to be 11,000 feet long by 150 feet wide); acquisition of land for the runway object free area, taxiway object free area, runway safety area, and runway protection zone; from USAF Plant 44. The proposed ASEP also includes relocation of navigational aids and development and/or modification of associated arrival and departure procedures for the relocated runway. The proposed ASEP also includes demolition of 12 ECMs and replacement of the ECMs elsewhere on USAF Plant 44. The EIS will also evaluate the proposed release of airport land from federal obligations between the former East Hughes Access Road and the new Aerospace Parkway, south of USAF Plant 44. A portion of this land has been proposed for construction of a Munitions Storage Area, to include ECMs, and access road, for the 162nd Fighter Wing at the Tucson Air National Guard Base located adjacent to Tucson International Airport. The FAA is the lead Federal Agency for preparation of the EIS. The FAA has invited the U.S. Department of the Air Force and the U.S. National Guard Bureau to participate as cooperating agencies under Title 40, Code of Federal Regulations (CFR) § 1508.5.

Within the EIS, FAA proposes to consider a range of alternatives that could potentially meet the purpose and need to enhance airfield safety at Tucson International Airport including, but not limited to, the following:

Alternative One—Sponsor's Proposed Action: Acquire 58 acres of land along the shared property boundary between the Tucson International Airport and USAF Plant 44, construction of a new centerline parallel and connecting taxiway between Runway 11L-29R and Runway 11R-29L; construction of a relocated Runway 11R-29L about 100 feet to the southwest, creating a centerline separation of 800 feet between the existing Runway 11L/29R and the relocated Runway 11R/29L. The relocated Runway 11R/29L will be 11,000 feet long by 150 feet wide. The relocation of Runway 11R/29L will include removal and reinstallation of associated navigational aids. This alternative includes demolition of 12 ECMs and construction of replacement ECMs, elsewhere on USAF Plant 44; release of airport land from federal obligations between the former East Hughes Access Road and Aerospace Parkway. A portion of this land would be ultimately transferred to the USAF, on behalf of the NGB, for construction of a Munitions Storage Area and an access road for the 162 Fighter Wing based at Tucson Air National Guard Base.

Alternative Two—Alternative Airfield Development at Tucson: Extending and upgrading the current general aviation Runway 11R/29L to an air carrier runway, maintaining a 700-foot centerline separation between the current air carrier Runway 11L/29R and the extended and upgraded Runway 11R/29L.

Alternative Three—Use of Other Existing Airports: The possible use of other existing area airports including, but not limited to, Ryan Airfield and Marana Regional Airport will be evaluated.

Alternative Four—Use of Other Modes of Transportation: Use of intercity bus line, rail, and automobile transportation will be evaluated.

Alternative Five—No Action Alternative: Under this alternative, the existing airport would remain unchanged. No land acquisition and transfer between the Tucson International Airport and USAF Plant 44 and no demolition and replacement of ECMs would occur; no new center taxiway would be constructed, and Runway 11R-29L would remain in its current configuration. FAA would not release land between the former East Hughes Access Road and Aerospace Parkway, no new Munitions Storage Area and access road for the 162nd Fighter Wing of the Arizona Air National would be constructed on land between the former East Hughes Access Road and Aerospace Parkway.

Public Scoping and Agency Meetings: To ensure that the full range of issues related to the proposed action is addressed and that all significant issues are identified, comments and suggestions are invited from all interested parties. Public and agency scoping meetings will be conducted to identify any significant issues associated with the proposed action.

A governmental agency scoping meeting for all federal, state, and local regulatory agencies which have jurisdiction by law or have special expertise with respect to any potential environmental impacts associated with the proposed action will be held on Thursday, September 22, 2016. This meeting will take place at 1:00 p.m. Mountain Standard Time, on the first floor of the Tucson Executive Terminal, at the base of the old Airport Traffic Control Tower building with “TUCSON” on the side, 7081 South Plumer Avenue, Tucson, Arizona. A notification letter will be sent in advance of the meeting.

One public scoping meeting for the general public will be held. The public scoping meeting will be held from 6:00 p.m. to 8:00 p.m. Mountain Standard Time on Thursday, September 22, 2016. The public scoping meeting will be conducted on the first floor of the Tucson Executive Terminal at the base of the old Airport Traffic Control Tower building with “TUCSON” on the side, 7081 South Plumer Avenue, Tucson, Arizona. To notify the general public of the scoping process, a legal notice will be placed in newspapers having general circulation in the study area. The newspaper notice will notify the public that scoping meetings will be held to gain their input concerning the proposed action, alternatives to be considered, and impacts to be evaluated.

The FAA is aware that there are Native American tribes with a historical interest in the area. The FAA will interact on a government-to-government basis, in accordance with all executive orders, laws, regulations, and other memoranda. The tribes will also be invited to participate in accordance with NEPA and Section 106 of the National Historic Preservation Act.

Issued in Hawthorne, California August 11, 2016.
Mark A. McClardy,
Director, Office of Airports, Western-Pacific Region, AWP-600.

[FR Doc. 2016-19776 Filed 8-18-16; 8:45 am]

BILLING CODE 4910-13-P